DEPARTMENT OF ENERGY

Federal Energy Regulatory Commission

Combined Notice of Filings # 1

Take notice that the Commission received the following electric corporate filings:

Docket Numbers: EC14-65-000.

Applicants: Desert View Power, Inc., Eel River Power LLC.

Description: Application for Authorization Under Section 203 of the Federal Power Act and Request for Waivers, Expedited Action and Shortened Comment Period of Desert View Power, Inc., et al.

Filed Date: 3/6/14.

Accession Number: 20140306-5158.

Comments Due: 5 p.m. ET 3/27/14.

Docket Numbers: EC14-66-000.

Applicants: Scrubgrass Generating Company, L.P.

Description: Application for Authorization for Disposition of Jurisdictional Facilities and Request for Expedited Action of Scrubgrass Generating Company, L.P.

Filed Date: 3/7/14.

Accession Number: 20140307-5082.

Comments Due: 5 p.m. ET 3/28/14.

Take notice that the Commission received the following electric rate filings:

Docket Numbers: ER11-5-003; ER11-6-002; ER13-131-002; ER14-479-001; ER14-950-001.

Applicants: Great Bay Energy I LLC, Great Bay Energy IV, LLC, Great Bay Energy LLC, Great Bay Energy V, LLC, Great Bay Energy VI, LLC, Great Bay Energy, LLC.

Description: Notice of Non-Material Change in Status of the Great Bay Energy Companies.

Filed Date: 3/6/14.

Accession Number: 20140306-5160.

Comments Due: 5 p.m. ET 3/27/14.

Docket Numbers: ER14-836-001.

Applicants: Midcontinent Independent System Operator, Inc.

Description: 2014-03-07_SA 2622 Courtenay & OTP (J262-3) E&P Compliance Filing to be effective 12/27/2013.

Filed Date: 3/7/14.

Accession Number: 20140307-5023.

Comments Due: 5 p.m. ET 3/28/14.

Docket Numbers: ER14-846-001.

Applicants: Northern States Power Company, a Minnesota corporation, Northern States Power Company, a Wisconsin corporation.

Description: 20140306-Theoretical Reserve Update to be effective 1/1/2013.

Filed Date: 3/6/14.

Accession Number: 20140306-5153.

Comments Due: 5 p.m. ET 3/20/14.

Docket Numbers: ER14-998-001.

Applicants: Richland-Stryker Generation LLC.

Description: Amendment to 3 to be effective 3/8/2014.

Filed Date: 3/7/14.

Accession Number: 20140307-5146.

Comments Due: 5 p.m. ET 3/28/14.

Docket Numbers: ER14-1341-001.

Applicants: Solea Energy, LLC.

Description: Amended MBR Filing to be effective 3/1/2014.

Filed Date: 3/7/14.

Accession Number: 20140307-5123.

Comments Due: 5 p.m. ET 3/28/14.

Docket Numbers: ER14-1438-000.

Applicants: PJM Interconnection, L.L.C.

Description: Original Service Agreement No. 3764; Queue No. Y3-029 to be effective 2/4/2014.

Filed Date: 3/6/14.

Accession Number: 20140306-5134.

Comments Due: 5 p.m. ET 3/27/14.

Docket Numbers: ER14-1439-000.

Applicants: TrailStone Power, LLC.

Description: TrailStone MBR filing to be effective 3/7/2014.

Filed Date: 3/6/14.

Accession Number: 20140306-5147.

Comments Due: 5 p.m. ET 3/27/14.

Docket Numbers: ER14-1440-000.

Applicants: California Independent System Operator Corporation.

Description: Petition for Limited Waiver of Tariff Provisions and Expedited Commission Action to be effective N/A.

Filed Date: 3/6/14.

Accession Number: 20140306-5152.

Comments Due: 5 p.m. ET 3/13/14.

Docket Numbers: ER14-1441-000.

Applicants: Consolidated Edison Company of New York, Inc.

Description: PASNY Tariff Amendment to be effective 3/1/2014.

Filed Date: 3/6/14.

Accession Number: 20140306-5154.

Comments Due: 5 p.m. ET 3/27/14.

Docket Numbers: ER14-1442-000.

Applicants: California Independent System Operator Corporation.

Description: Petition for Tariff Waiver and Next-Day Action to be effective N/A.

Filed Date: 3/6/14.

Accession Number: 20140306-5155.

Comments Due: 5 p.m. ET 3/11/14.

Docket Numbers: ER14-1443-000.

Applicants: Southern California Edison Company.

Description: Amended SGIA and Distribution Service Agreement With SCE's GPS to be effective 5/7/2014.

Filed Date: 3/7/14.

Accession Number: 20140307-5002.

Comments Due: 5 p.m. ET 3/28/14.

Docket Numbers: ER14-1444-000.

Applicants: Southern California Edison Company.

Description: LGIA with Palmdale Energy, LLC to be effective 3/8/2014.

Filed Date: 3/7/14.

Accession Number: 20140307-5005.

Comments Due: 5 p.m. ET 3/28/14.

Docket Numbers: ER14-1445-000.

Applicants: Dunkirk Power LLC.

Description: Requests of Dunkirk Power LLC for Limited Tariff Waiver, Extension Under the Tariff and Commission Action by July 2, 2014.

Filed Date: 3/6/14.

Accession Number: 20140306-5161.

Comments Due: 5 p.m. ET 3/27/14.

Docket Numbers: ER14-1446-000.

Applicants: Midcontinent Independent System Operator, Inc.

Description: 2014-03-07_SA 2037 Ameren-Wabash Valley (Citizens) WDS Agreement to be effective 1/1/2014.

Filed Date: 3/7/14.

Accession Number: 20140307-5062.

Comments Due: 5 p.m. ET 3/28/14.

Docket Numbers: ER14-1447-000.

Applicants: Southwest Power Pool, Inc.

Description: 2809 Cimarron Wind Energy & Sunflower Meter Agent Agreement to be effective 3/1/2014.

Filed Date: 3/7/14.

Accession Number: 20140307-5087.

Comments Due: 5 p.m. ET 3/28/14.

Docket Numbers: ER14-1448-000.

Applicants: ISO New England Inc., New England Power Pool Participants Committee.

Description: Rev. to Security Agreement as an Exhibit to FAP to be effective 3/7/2014.

Filed Date: 3/7/14.

Accession Number: 20140307-5088.

Comments Due: 5 p.m. ET 3/28/14.

Docket Numbers: ER14-1449-000.

Applicants: Arizona Public Service Company.

Description: Service Agreement No. 330, LGIA With Copper Mountain Solar 3, LLC to be effective 2/10/2014.

Filed Date: 3/7/14.

Accession Number: 20140307-5104.

Comments Due: 5 p.m. ET 3/28/14.

Docket Numbers: ER14-1450-000.

Applicants: Indigo Generation LLC.

Description: Order No. 784 Compliance Filing to be effective 3/8/2014.

Filed Date: 3/7/14.

Accession Number: 20140307-5127.

Comments Due: 5 p.m. ET 3/28/14.

Docket Numbers: ER14-1451-000.

Applicants: Larkspur Energy LLC.

Description: Order No. 784 Compliance Filing to be effective 3/8/2014.

Filed Date: 3/7/14.

Accession Number: 20140307-5128.

Comments Due: 5 p.m. ET 3/28/14.

Docket Numbers: ER14-1452-000.

Applicants: Wildflower Energy LP.

Description: Order No. 784 Compliance Filing to be effective 3/8/2014.

Filed Date: 3/7/14.

Accession Number: 20140307-5129.

Comments Due: 5 p.m. ET 3/28/14.

Docket Numbers: ER14-1453-000.

Applicants: Mariposa Energy, LLC.

Description: Order No. 784 Compliance Filing to be effective 3/8/2014.

Filed Date: 3/7/14.

Accession Number: 20140307-5132.

Comments Due: 5 p.m. ET 3/28/14.

Docket Numbers: ER14-1454-000.

Applicants: RC Cape May Holdings, LLC.

Description: Request for Waiver of Must-Offer Requirement of RC Cape May Holdings, LLC.

Filed Date: 3/7/14.

Accession Number: 20140307-5168.

Comments Due: 5 p.m. ET 3/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2014.
Nathaniel J. Davis, Sr.,
Deputy Secretary.

[FR Doc. 2014-05766 Filed 3-14-14; 8:45 am]

BILLING CODE 6717-01-P